ENVIRONMENTAL PROTECTION AGENCY

[ER-FRL-8585-6]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in FR dated April 6, 2008 (73 FR 19833).

Draft EISs

EIS No. 20080250, ERP No. D-FHW-K53013-CA, Orange County Gateway Project, To Provide Grade Separation Alternative along the Burlington Northern Santa Fe Railroad Tracks from west of Bradford Avenue to west of Imperial Highway (State Route 90), Cities of Placentia and Anaheim, Orange County, CA.

Summary: EPA expressed environmental concerns about water quality, air quality, induced traffic, construction and cumulative impacts, and requested additional analysis and/or mitigation strategies for each resource area of concern. Rating EC2.

EIS No. 20080258, ERP No. D-NHT-A86245-00, Corporate Average Fuel Economy (CAFE) Proposed Standards for Model Year 2011-2025 Passenger Cars and Light Trucks, Implementation

Summary: EPA expressed environmental concerns about the methodology used to determine the relative costs and benefits of the alternatives analyzed in the DEIS. Rating EC2.

EIS No. 20080260, ERP No. D-AFS-F65071-WI, Medford Aspen Project, To Implement a Number of Vegetation and Transportation Management Activities, Medford-Park Falls Ranger District, Chequamegon-Nicolet National Forest, Taylor County, WI.

Summary: EPA does not object to the selection of the preferred alternative. Rating LO.

EIS No. 20080263, ERP No. D-COE-K39114-CA, Three Rivers Levee Improvement Authority, proposes construct and maintain the Feather River Levee Repair Project, Segment 2, Issuing 408 Permission and 404 Permit, Yuba County,CA.

Summary: While EPA has no objection to the proposed action, EPA did request clarification of air and water quality issues and mitigation. Rating LO.

EIS No. 20080272, ERP No. DB-COE-K32046-CA, Port of Los Angeles Channel Deepening Project, To Dispose of Approximately 3.0 Million Cubic Yards of Dredge Material Required to Complete the Channel Deepening Project and to Beneficially Reuse the Dredge Material with the Port of Los Angeles, Los Angeles County, CA.

Summary: EPA expressed environmental concerns about air quality, human health, environmental justice, and impacts associated with the ocean disposal and dredged materials. Rating EC2.

EIS No. 20080268, ERP No. DS-FTA-F40434-MN, Central Corridor Project, New Information on the 11 miles Light Rail Transit between downtown Minneapolis and downtown St. Paul, Minnesota, Twin Cities Metropolitan Area, MN.

Summary: EPA continues to have environmental concerns about hazardous waste, and air quality impacts. New impacts to surface water and habitat were identified. Rating EC2.

EIS No. 20080283, ERP No. DS-AFS-F65069-MN, Glacier Project, Updated Information to Develop and Analyze a Fourth Alternative, To Maintain and Promote Native Vegetation, Communities that are Diverse, Productive, Healthy, Implementation, Superior National Forest, Kawishiwi Ranger District, St. Louis and Lake Counties, MN.

Summary: EPA does not object to the proposed action.

Final EISs

EIS No. 20080278, ERP No. F-NPS-L65486-WA, Mountain Lake Fisheries Management Plan for the North Cascades National Service Complex, Implementation, North Cascades National Park, Whatcom, Skagit and Chelan Counties, WA.

Summary: EPA's previous issues have been resolved; therefore, EPA does not object to the proposed action.

EIS No. 20080280, ERP No. F-AFS-J65513-WY, Winter Elk Management Programs, Long-Term Special Use Authorization for Wyoming Game and Fish Commission to use National Forest System Land Within the Bridger-Teton National Forest at Alkali Creek, Dog Creek, Fall Creek, Fish Creek, Muddy Creek, Patrol Cabin, and Upper Green River, Jackson and Sublette, WY.

Summary: No formal comment letter was sent to the preparing agency.

EIS No. 20080294, ERP No. F-FHW-D40332-VA, U.S. 460 Location Study Project, Transportation Improvements from I-295 in Prince George County to the Interchange of Route 460 and 58 along the Suffolk Bypass, Funding, U.S. Army COE Section 10 and 404 Permits, Prince George, Sussex, Surry, Southampton and Isle of Wight Counties, VA.

Summary: EPA continues to have environmental concerns about aquatic, terrestrial, and environmental justice impacts.

EIS No. 20080298, ERP No. F-BLM-L70014-ID, Cottonwood Resource Management Plan, Implementation, Latah, Clearwater, Nez Perce, Lewis, Idaho and Adams Counties, ID.

Summary: EPA's previous concerns have been resolved; therefore, EPA does not object to the proposed action.

Dated: September 9, 2008.
Robert W. Hargrove,
Director, NEPA Compliance Division, Office of Federal Activities.

[FR Doc. E8-21302 Filed 9-11-08; 8:45 am]

BILLING CODE 6560-50-P